DEPARTMENT OF AGRICULTURE

Forest Service

Humboldt County Resource Advisory Committee (RAC)

AGENCY: Forest Service, USDA.

ACTION: Notice of meeting.

SUMMARY: The Humboldt County Resource Advisory Committee (RAC) will meet in Eureka, California. The committee meeting is authorized under the Secure Rural Schools and Community Self-Determination Act (Pub. L. 110-343) and in compliance with the Federal Advisory Committee Act.

DATES: The meeting will be held March 8, 2011, from 5 p.m. to 7 p.m.

ADDRESSES: The meeting will be held at the Six Rivers National Forest Office, 1330 Bayshore Way, Eureka, CA 95501.

FOR FURTHER INFORMATION CONTACT: Adam Dellinger, Committee Coordinator, at (707) 441-3569; e-mail adellinger@fs.fed.us.

SUPPLEMENTARY INFORMATION: The meeting is open to the public. The agenda includes a public comment period, continued review of Title II project proposals received, and a preliminary vote on projects to recommend for funding.

Dated: February 14, 2011.
Tyrone Kelley,
Forest Supervisor.

[FR Doc. 2011-3696 Filed 2-17-11; 8:45 am]

BILLING CODE 3410-11-P